DEPARTMENT OF HEALTH AND HUMAN SERVICES

Substance Abuse and Mental Health Services Administration

Establishment of the Interdepartmental Serious Mental Illness Coordinating Committee (ISMICC)

AGENCY: Substance Abuse and Mental Health Services Administration, Department of Health and Human Services.

ACTION: Notice of Establishment of the Interdepartmental Serious Mental Illness Coordinating Committee (ISMICC).

SUMMARY: The Secretary of Health and Human Services (Secretary), in accordance with section 6031 of the 21st Century Cures Act, announces the establishment of the Interdepartmental Serious Mental Illness Coordinating Committee (ISMICC). The Secretary designated the Assistant Secretary for Mental Health and Substance Use as Chair of the ISMICC. This ISMICC will consist of federal members listed below or their designees and non-federal public members.

DATES: Established March 15, 2017.

FOR FURTHER INFORMATION CONTACT: Pamela Foote, Substance Abuse and Mental Health Services Administration, 5600 Fishers Lane, 14E53C, Rockville, MD 20857; telephone: 240-276-1279; email: pamela.foote@samhsa.hhs.gov.

SUPPLEMENTARY INFORMATION:

I. Background and Authority

The ISMICC is established in accordance with section 6031 of the 21st Century Cures Act, and the Federal Advisory Committee Act, 5 U.S.C. App., as amended, to report to the Secretary, Congress, and any other relevant federal department or agency on advances in serious mental illness (SMI) and serious emotional disturbance (SED), research related to the prevention of, diagnosis of, intervention in, and treatment and recovery of SMIs, SEDs, and advances in access to services and support for adults with SMI or children with SED. The Secretary designated the Assistant Secretary for Mental Health and Substance Use as Chair of the ISMICC. In addition, the ISMICC will evaluate the effect federal programs related to serious mental illness have on public health, including public health outcomes such as (A) rates of suicide, suicide attempts, incidence and prevalence of SMIs, SEDs, and substance use disorders, overdose, overdose deaths, emergency hospitalizations, emergency room boarding, preventable emergency room visits, interaction with the criminal justice system, homelessness, and unemployment; (B) increased rates of employment and enrollment in educational and vocational programs; (C) quality of mental and substance use disorders treatment services; or (D) any other criteria as may be determined by the Secretary. Finally, the ISMICC will make specific recommendations for actions that agencies can take to better coordinate the administration of mental health services for adults with SMI or children with SED. Not later than 1(one) year after the date of enactment of the 21st Century Cures Act, and 5 (five) years after such date of enactment, the ISMICC shall submit a report to Congress and any other relevant federal department or agency.

II. Structure, Membership, and Operation

This ISMICC will consist of federal members listed below or their designees and non-federal public members.

Federal Membership: The ISMICC will be composed of the following federal members or their designees:

• The Secretary;

• The Assistant Secretary for Mental Health and Substance Use;

• The Attorney General;

• The Secretary of the Department of Veterans Affairs;

• The Secretary of the Department of Defense;

• The Secretary of the Department of Housing and Urban Development;

• The Secretary of the Department of Education;

• The Secretary of the Department of Labor;

• The Administrator of the Centers for Medicare and Medicaid Services; and

• The Commissioner of the Social Security Administration.

Non-federal Membership: The ISMICC shall also include not less than 14 non-federal public members appointed by the Secretary of which:

• At least two individuals who have received treatment for a diagnosis of a SMI;

• A parent or legal guardian of an adult with a history of SMI or a child with a history of SED;

• A representative of a leading research, advocacy, or service organization for adults with SMI;

• At least two members who are one of the following:

○ A licensed psychiatrist with experience treating SMI;

○ A licensed psychologist with experience in treating SMI or SED;

○ A licensed clinical social worker with experience treating SMIs or SEDs; or

○ A licensed psychiatric nurse, nurse practitioner, or physician's assistant with experience in treating SMIs or SEDs.

• A licensed mental health professional with a specialty in treating children and adolescents with a SED;

• A mental health professional who has research or clinical mental health experience in working with minorities;

• A mental health professional who has research or clinical mental health experience in working with medically underserved populations;

• A state certified mental health peer support specialist;

• A judge with experience in adjudicating cases related to criminal justice or SMI;

• A law enforcement officer or corrections officer with extensive experience in interfacing with adults with a SMI, children with SED, or individuals in a mental health crisis; and

• An individual with experience providing services for homeless individuals and working with adults with SMI, children with a SED, or individuals in a mental health crisis.

The term of office of a non-federal member of the ISMICC shall be for three years, subject to reappointment to serve for one or more additional three year terms. If a vacancy occurs in the ISMICC among the members, the Secretary shall make an appointment to fill such vacancy within 90 days from the date the vacancy occurs. Any member appointed to fill a vacancy for an unexpired term shall be appointed for the remainder of such term. A member may serve after the expiration of the member's term until a successor has been appointed. Initial appointments shall be made in such a manner as to ensure that the terms of the members not all expire in the same year. The ISMICC is required to meet twice per year. The Substance Abuse and Mental Health Services Administration shall provide orientation and training for new members of the ISMICC for their effective participation in the functions of the ISMICC.

A separate Federal Register Notice will be posted to solicit nominations for the non-federal members of the ISMICC.

Dated: April 13, 2017.
Carlos Castillo,
Committee Management Officer, SAMHSA.

[FR Doc. 2017-08703 Filed 4-28-17; 8:45 am]

BILLING CODE 4162-20-P